DEPARTMENT OF TRANSPORTATION

Federal Aviation Administration

Notice of Availability of the Final Environmental Impact Statement (FEIS) for the Taos Regional Airport Layout Plan Improvements, Taos, NM

AGENCY: Federal Aviation Administration (FAA), Department of Transportation (DOT).

ACTION: Notice of Availability of the Final Environmental Impact Statement.

Location: The Taos Regional Airport (SKX) is located in north Taos County, New Mexico, approximately seven miles northwest of the Town of Taos.

SUMMARY: The FAA is issuing this Notice to advise the public that it has prepared a Final Environmental Impact Statement (FEIS) for a proposed new runway and associated facilities and improvements at the Taos Regional Airport, Taos, New Mexico. The FEIS reflects the Section 106 consultations between the FAA, the Taos Pueblo, Town of Taos, National Park Service, Advisory Council on Historic Preservation, New Mexico State Historic Preservation Officer (SHPO), and the New Mexico Department of Transportation regarding adverse effects on the Taos Pueblo World Heritage Site and other traditional cultural properties within the National Register Eligible Historic District associated with the Taos Pueblo. The FEIS also includes floodplain impact evaluations.

The FAA is seeking comments on those sections of the FEIS that have been updated and/or contain information that has become available since the release of the DEIS. Please see the SUPPLEMENTARY INFORMATION section below for more information.

The FAA is providing a thirty day (30) day FEIS review period. The FEIS review period begins on the date of the publication of this Notice of Availability in the Federal Register, and will close on July 30, 2012. The FAA must receive written comments on these subsections postmarked no later than July 30, 2012. Comments received after that date may not be considered by the FAA.

All comments on the FEIS are to be submitted to Mr. Dean McMath of the FAA, at the address shown in the section below entitled, “For Further Information or to Submit Comments”.

SUPPLEMENTARY INFORMATION: The FAA, as the lead Federal agency, has prepared the EIS for the proposed new runway and related facilities and improvements at SKX. The Department of Interior National Park Service and the Taos Pueblo are Cooperating Agencies for the preparation of the EIS.

The airport development action proposed by the Town of Taos (the Airport Sponsor) is the construction of a new runway at SKX that would be 8,600 feet long and 100 feet wide. Related facilities and improvements proposed by the Airport Sponsor include grading and drainage improvements, taxiways, new airfield lighting, communication equipment, and navigational aids associated with the new runway; shortening the existing Runway 4/22 by 420 feet; construction of a new airport access road; and, extension of an on-airport access road.

The FAA published a Draft Environmental Impact Statement (DEIS) in October, 2006. The DEIS was prepared pursuant to the National Environmental Policy Act of 1969 (NEPA). The DEIS comparatively assessed and disclosed the potential future impacts of the No-Action Alternative and three proposed action alternatives designated as Alternative 2-C, Alternative 2-D, and Alternative 3.

Since the publication of the DEIS, the FAA has addressed comments received on the DEIS; addressed comments on the Preliminary FEIS provided by Cooperating Agencies; conducted additional technical analyses; conducted the Section 106 consultation process; and prepared the FEIS. The Section 106 consultation process resulted in the execution of a Memorandum of Agreement (MOA) in February 2012.

Because the DEIS is more than three years old, the FAA evaluated the DEIS to determine whether the consideration of alternatives, affected environment, environmental impacts, and mitigation measures in the DEIS remains applicable, accurate, and valid in accordance with FAA Order 1050.1E, paragraph 514a and 5050.4B, Section 1401.b.3. The FAA found that substantial changes in these factors have not occurred and that a complete revision or supplement to the DEIS was not warranted. However, FAA's review of current information did note that some social and environmental changes have occurred since the DEIS was published in 2006. The FAA evaluated the new information and determined that the changes did not affect the range of alternatives considered or the detailed analysis of alternatives conducted in this FEIS. However, to document and disclose the social and environmental changes that have occurred, the FAA prepared a technical memorandum that presents the new information and discusses any potential impacts related to the changed social and environmental conditions. The technical memorandum is contained in the FEIS.

The FAA is making available the FEIS it prepared addressing a proposed new runway and associated facilities and improvements at the Taos Regional Airport. The FEIS discloses:

• The purpose and need for the proposed project;

• Reasonable alternatives analyzed and the FAA's preferred alternative;

• Potential environmental impacts and consequences associated with those alternatives;

• FAA's responses to comments it received on the DEIS; and

• How FAA has complied with various resource laws, regulations and executive orders, including the National Environmental Policy Act, Section 106 of the National Historic Preservation Act, Executive Order (EO) 12898, “Federal Actions to Address Environmental Justice in Minority Populations and Low-Income Populations”, and EO 11988, “Floodplain Management.”

Public Review and Comment: The FEIS is available for review during normal business hours at the following locations:

• FAA Southwest Regional Office, 2601 Meacham Boulevard, Fort Worth, Texas 76137,

• Taos Regional Airport, Highway 64 West, 1 Airport Road, Taos, New Mexico 87571,

• Taos Town Hall, 400 Camino de la Placita, Taos, New Mexico 87571, and

• Taos Public Library, 402 Camino de la Placita, Taos, New Mexico 87571.

Comments should be as specific as possible and address the analysis of potential environmental impacts, the adequacy of the proposed action, or the merits of alternatives and the mitigation being considered. Reviewers should organize their participation so that it is meaningful and makes the agency aware of the viewer's interests and concerns using quotations and other specific references to the text of the FEIS and related documents. This is intended to ensure that substantive comments and concerns are made available to the FAA in a timely manner so that the FAA has an opportunity to address them in its Record of Decision (ROD).

Comments can only be accepted with the full name and address of the individual commenting. Before including your address, phone number, email address, or other personal identifying information in your comment, be advised that your entire comment—including your personal identifying information—may be made publicly available at any time. While you can ask the FAA in your comment to withhold from public review your personal identifying information, the FAA cannot guarantee that it will be able to do so.

After review and consideration of the comments received on the FEIS, and sometime after the 30-day comment period on the FEIS has ended, the FAA will issue its ROD.

FOR FURTHER INFORMATION CONTACT OR TO SUBMIT COMMENTS: Dean McMath, ASW-613, Regional Environmental Programs Manager, Federal Aviation Administration, Southwest Regional Office, Fort Worth, Texas 76193, telephone (817) 222-5617.

Issued in Fort Worth, Texas, on June 19, 2012.
Kelvin L. Solco,
Manager, Airports Division.

[FR Doc. 2012-15735 Filed 6-26-12; 8:45 am]

BILLING CODE 4910-13-P